DEPARTMENT OF DEFENSE

Department of the Army; Corps of Engineers

Notice of Availability of a Final Supplemental Environmental Impact Statement (FSEIS), for Phipps Ocean Park Beach Restoration Project, FSEIS—Department of the Army (DA) Permit Application Number 200000380(IP-PLC), Town of Palm Beach, Palm Beach County, FL

AGENCY: Department of the Army, U.S. Army Corps of Engineers, DoD.

ACTION: Notice of availability.

SUMMARY: In accordance with the requirements of the National Environmental Policy Act (NEPA), the U.S. Army Corps of Engineers (USACE or Corps) Jacksonville District, announces the availability of a Regulatory Program Final SEIS for the proposed Phipps Ocean Park Beach Restoration Project. The Town of Palm Beach, Florida (Applicant) is seeking Corps regulatory authorization for the proposed project pursuant to Section 404 of the Clean Water Act and section 10 of the Rivers and Harbors Act of 1899 (33 U.S.C. 403). In accordance with 40 CFR 1506.5 and Appendix B, 33 CFR part 325, the Applicant has prepared the Final SEIS on the requested permit action under the direct supervision of the Corps pursuant to a “third party contract.”

The general environmental impacts of beach restoration and erosion control activities on the Southeast Atlantic Coast of Florida were previously evaluated in the “Coast of Florida, Erosion and Storm Effects Study—Region III, with Final Environmental Impact Statement, U.S. Army Corps of Engineers, Jacksonville District,” October 1996. The Applicant's proposed project is located within a segment of the Region III area evaluated in the Coast of Florida FEIS and the Phipps Ocean Park Final SEIS is a supplement to the Coast of Florida FEIS. The Applicant's proposed project is consistent with the Town's “Comprehensive Coastal Management Plan Update—Palm Beach Island, Florida” (June 1998).

As required by NEPA, the Final SEIS describes the Applicant's preferred alternative and other alternatives evaluated to provide alternative and other alternatives evaluated to provide shore protection for Phipps Ocean Park within the Town of Palm Beach, FL. In response to comments on the Draft SEIS, the FSEIS includes: (1) An expanded analysis of the No Action Alternative; (2) the addition of Appendix N, which includes additional data and analysis regarding potential storm associated with the No Action Alternative as compared to the Applicant's Preferred Alternative; (3) the addition of Appendix M, which describes and evaluates a new alternative designated the “T-Head Groin and Reduced Fill Alternative;” and (4) new data regarding the location and height of nearshore hardbottom features under the existing Project area beach, along with an expanded analysis and revised modeling of how these features would impact future shoreline conditions if the No Action Alternative is selected.

The Applicant's preferred alternative is intended to: (1) Mitigate the long-term erosion impacts of Lake North Inlet and armored coastline north of the Project area; (2) provide and maintain storm protection to upland improvements; (3) restore and maintain the beach for public recreational use; and (4) restore and maintain the beach for marine turtle nesting habitat.

The Applicant's preferred alternative includes placement of approvimately 1.5 million cubic yards of fill over approximately 1.9 miles of beach, between DEP Monuments R-116a nd R-126. Sand compatible with the existing beach has been identified and would be obtained from borrow areas located approximately 3,500 feet offshore and between 1.5 and 2.6 miles south of the fill area. The proposed borrow areas have been designed with buffer zones to avoid impacts to hardbottom communities in the vicinity of the borrow areas.

The Final SEIS also identifies and evaluates the potential direct, indirect, and cumulative environmental consequences of the Applicant's preferred alternative, including potential impacts to Essential Fish Habitat, hardbottom resources and other specific issues identified during the scoping process.

DATES: The public comment period on the Final SEIS shall end on April 30, 2004. Written comments must be received at the address listed below no later than 5 p.m.

ADDRESSES: Send written comments and questions concerning this proposal to Ms. Penny Cutt, Phipps SEIS Project Manager, Department of the Army, Jacksonville District Corps of Engineers, Palm Beach Gardens Regulatory Office, 4400 PGA Boulevard, Suite 500, Palm Beach Gardens, FL 33410-6557; telephone 561-472-3505, facsimile 561-626-6971, or e-mail at penny.cutt@saj02.usace.army.mil. Copies of the Final SEIS document may be obtained by contacting Lois Edwards, SEIS Public Involvement Coordinator/Third Party Contractor, Coastal Technology Corp., 3625 20th Street, Vero Beach, FL 32960, telephone (888) 562-8580; facsimile (772) 562-8432 or by e-mail to ledwards@coastaltechcorp.com. Copies may be requested in either hard copy or in digital format on CD. This document may also be found on the Corps' Web site by accessing the following address: www.saj.usace.army.mil/permit/hot_topics/PhippsEIS/phippsindex.htm. Requests to be placed on the mailing list should be sent to Mrs. Edwards at the Vero Beach address.

FOR FURTHER INFORMATION CONTACT: Penny Cutt at the above address or Peter A. Ravella, SEIS Project Manager/Third Party Contractor, Coastal Technology Corp., 2306 Lake Austin Blvd., Austin, TX 78703; telephone (512) 236-9494; facsimile (800) 321-9673, or e-mail at pravella@coastaltechcorp.com.

SUPPLEMENTARY INFORMATION: The Final SEIS examines potential impacts to Essential Fish Habitat (EFH) and also includes a comprehensive examination of potential cumulative impacts of the project and other projects from Lake Worth Inlet to South Lake Worth Inlet. In accordance with the NEPA, the Final SEIS evaluates reasonable alternatives for the USACE's decision-making process, including the “no action” alternative as a baseline for gauging potential impacts.

The Florida Department of Environmental Protection (FDEP) has designated all of the Project area from R-116 to R-126 as an area of “critical erosion.” This designation is based on (a) the erosion attributable to the influence of Lake Worth Inlet and the adjacent armored shoreline and (b) the existing headland features surrounding the Project area.

Shoreline conditions and structures updrift of the Project area exacerbate erosion in the Project area and the shoreline further south. Net longshore sand transport in the region is to the south. Construction of the Lake Worth Inlet and its jetties interrupt the longshore flow of sand and starves the Project area and regions south of the inlet and have led to the construction of seawalls, groins, and eventually a rock revetment constructed by the Florida Department of Transportation (FDOT) north of Sloan's Curve in 1987. The revetment has cut-off the sand supply from the dune landward of the revetment and contributed to the diminishment of sediment transport into the Project area. These conditions are expected to continue to contribute to the erosion within the Project area in the future.

The three miles of shoreline immediately north of Sloan's Curve are fronted by numerous armoring structures including rock revetments, seawalls, and groins. The existing groins north of Phipps Ocean Park deter southerly longshore transport to Phipps Ocean Park and the Project area. The Mid-Town Beach Restoration Project (unrelated to the project for which the Applicant seeks authorization) is located to the north of this three-mile segment; the groins and armoring have impeded the southerly migration of the Mid-Town sand. In combination with the effects of Lake Worth Inlet, armoring structures have caused a longshore transport and sediment deficit to the Project area, resulting in erosion, loss of the recreational beach, increase in the storm damage risk to upland property, and loss of sea turtle nesting habitat.

Copies of the Final SEIS are also available for inspection at the following locations:

(1) Town of Palm Beach Clerk's Office, Town Hall, 360 South county Road, Palm Beach, FL 33480.

(2) Town of Palm Beach Public Works Department, 951 Old Okeechobee Road, West Palm Beach, FL 33401.

(3) Town of Palm Beach Fire Rescue Station 3, 2185 South Ocean Blvd., Palm Beach, FL 33480.

(4) USACE Palm Beach Gardens Regulatory Office, 4400 PGA Boulevard, Suite 500, Palm Beach Gardens, FL 33410.

(5) Palm Beach County Government Center, Front Lobby Information Desk, 215 North Olive Avenue, West Palm Beach, FL 33401.

Brenda S. Bowen,
Alternate Army Federal Register Liaison Officer.

[FR Doc. 04-7195 Filed 3-30-04; 8:45 am]

BILLING CODE 3710-AJ-M